DEPARTMENT OF AGRICULTURE

Federal Crop Insurance Corporation

7 CFR Part 457

[Docket No. FCIC-13-0001]

RIN 0563-AC24

Common Crop Insurance Regulations; Forage Seed Crop Provisions; Correction

AGENCY: Federal Crop Insurance Corporation, USDA.

ACTION: Final rule; correcting amendment.

SUMMARY: This document contains a correction to the final regulation that was published Thursday, May 29, 2014 (79 FR 30703-30708). The regulation pertains to the insurance of Forage Seed.

DATES: Effective Date: June 30, 2014.

FOR FURTHER INFORMATION CONTACT: Tim Hoffmann, Director, Product Administration and Standards Division, Risk Management Agency, United States Department of Agriculture, Beacon Facility, Stop 0812, Room 421, P.O. Box 419205, Kansas City, MO 64141-6205, telephone (816) 926-7730.

SUPPLEMENTARY INFORMATION:

Background

The final regulation that is the subject of this correction added new Forage Seed Insurance Provisions that published on Thursday, May 29, 2014 (79 FR 30703-30708).

Need for Correction

As published, the final regulation contained clerical errors that may prove to be misleading and need to be clarified. In section 3(a), the word “ensure” was printed after the phrase “You may elect only one percentage of base price and one coverage level for each forage seed crop you elect to” rather than the word “insure”. In section 6(a)(1), a comma was inadvertently printed at the end of the paragraph. In section 8(a)(2) a comma was omitted between the phrase “For spring planted seed-to-seed year stands of forage seed crops” and the word “coverage.”

List of Subjects in 7 CFR Part 457

Crop insurance, Forage seed, Reporting and recordkeeping requirements, Correction of publication.

Accordingly, 7 CFR part 457 is corrected by making the following correcting amendment:

PART 457—COMMON CROP INSURANCE REGULATIONS

1. The authority citation for 7 CFR Part 457 continues to read as follows:

Authority: 7 U.S.C. 1506(l), 1506(o).

§ 457.174 [Amended]

2. Amend § 457.174 as follows:

a. In section 3(a) by removing the word “ensure” and adding the word “insure” in its place;

b. In section 6(a)(1) by removing the comma at the end of the paragraph; and

c. In section 8(a)(2) by adding a comma between the words “crops” and “coverage”.

Signed in Washington, DC, on June 17, 2014.
Michael Alston,
Acting Manager, Federal Crop Insurance Corporation.

[FR Doc. 2014-14625 Filed 6-23-14; 8:45 am]

BILLING CODE 3410-08-P